DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Prohibited Species Donation Program.

OMB Control Number: 0648-0316.

Form Number(s): None.

Type of Request: Regular (extension of a currently approved information collection).

Number of Respondents: 1.

Average Hours per Response: 50 hours for a three-year permit, annualized to 17.

Burden Hours: 17.

Needs and Uses: The prohibited species donation (PSD) program for salmon and halibut has effectively reduced regulatory discard of salmon and halibut by allowing fish that would otherwise be discarded to be donated to needy individuals through tax-exempt organizations. Vessels and processing plants participating in the PSD program voluntarily retain and process salmon and halibut bycatch. An authorized, tax-exempt distributor, chosen by the National Marine Fisheries Service (NMFS), is responsible for monitoring retention and processing of fish donated by vessels and processors. The authorized distributor also coordinates processing, storage, transportation, and distribution of salmon and halibut. The PSD program requires an information collection so that NMFS can monitor the authorized distributors' ability to effectively supervise program participants and ensure that donated fish are properly processed, stored, and distributed.

Affected Public: Not-for-profit institution.

Frequency: Every three years.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 7, 2017.
Sarah Brabson,
NOAA PRA Clearance Officer.

[FR Doc. 2017-24471 Filed 11-9-17; 8:45 am]

BILLING CODE 3510-22-P